INTERNATIONAL TRADE COMMISSION

[Investigation No. 337-TA-1117]

Certain Full-Capture Arrow Rests and Components Thereof Institution of Investigation

AGENCY: U.S. International Trade Commission.

ACTION: Notice.

SUMMARY: Notice is hereby given that a complaint was filed with the U.S. International Trade Commission on May 4, 2018, under section 337 of the Tariff Act of 1930, as amended, on behalf of Bear Archery, Inc. of Evansville, Indiana. The complaint alleges violations of section 337 based upon the importation into the United States, the sale for importation, and the sale within the United States after importation of certain full-capture arrow rests and components thereof by reason of infringement of U.S. Patent No. 6,978,775 (“the '775 patent”). The complaint further alleges that an industry in the United States exists as required by the applicable Federal Statute.

The complainant requests that the Commission institute an investigation and, after the investigation, issue a general exclusion order, or in the alternative, a limited exclusion order.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337 and in section 210.10 of the Commission's Rules of Practice and Procedure, 19 CFR 210.10 (2018).

Scope of Investigation: Having considered the complaint, the U.S. International Trade Commission, on June 5, 2018, ordered that—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1-3, 5-7, 16-22, 24-26, 31-33, and 35 of the '775 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “arrow rests having a slotted circular shaped ring with bristles pointed inward to provide radial support for an arrow, which are designed for attachment to an archery bow to support an arrow before it is fired”;

(3) For the purpose of the investigation so instituted, the following are hereby named as parties upon which this notice of investigation shall be served:

(a) The complainant is: Bear Archery, Inc., 817 Maxwell Avenue, Evansville, IN 47706.

(b) The respondents are the following entities alleged to be in violation of section 337, and are the parties upon which the complaint is to be served:

2BULBS Technology Co. Ltd., Qilin Technology Innovation Park, Nanjing, Jiangsu, China 210046

Ningbo Linkboy Outdoor Sports Co., Ltd, B1, 599 Qiming Road, Xiaying Town, Yinzhou District, Ningbo, Zhejiang, China

Shenzhen Keepmyway Tech. Co., Ltd. Building 2, Bagualing Industrial Zone, Bagua 2nd Rd., Futian District, Shenzhen, Guangdong, China 518000

Zhengzhou IRQ Outdoor Sports Co., Ltd., Shengshijingwei Building B, No. 18, Xinghua North St., Zhengzhou, Henan, China

Wenqing Zhang, Room 308, No. 2, Fuhua Building, Fuhua Road, Futian District, Shenzhen, Guangdong, China 51800

Tingting Ye, Freecity 659, Huaqiangbei, Futian District, Shenzhen, Guangdong, China 51800

Tao Li, Shenzhenshi Longhuaqu Dalangjiedao, Tongshengshequ Iinchenggongyeyuan, Disandong 11 Lou Afengeti, Shenzhen, Guangdong, China 518000

Sean Yuan, 97 Fuzhou South Road, Jiaozhou, Qingdao, Shandong, China 266300

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 6, 2018.
Lisa Barton,
Secretary to the Commission.

[FR Doc. 2018-12469 Filed 6-8-18; 8:45 am]

BILLING CODE 7020-02-P